FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Supervisory and Regulatory Survey (FR 3052; OMB No. 7100-0322).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 3052.

Final Approval Under OMB Delegated Authority of the Extension for Three Years, Without Revision, of the Following Information Collection

Collection title: Supervisory and Regulatory Survey.

Collection identifier: FR 3052.

OMB control number: 7100-0322.

General description of collection: This survey collects information from financial institutions specifically tailored to the Federal Reserve's supervisory, regulatory, and operational responsibilities. The frequency and content of the questions may depend on economic, regulatory, supervisory, and legislative developments. The surveys are conducted on a voluntary basis.

Frequency: On Occasion.

Respondents: Respondents may include bank holding companies, state member banks, savings and loan holding companies, intermediate holding companies, U.S. branches and agencies of foreign banking organizations (FBOs), Edge Act and agreement corporations, non-bank financial companies that the Financial Stability Oversight Council has determined should be supervised by the Board, or the combined domestic operations of FBOs.

Total estimated number of respondents: 5,000.

Estimated average hours per response: 0.5.

Total estimated annual burden hours: 60,000.

Current actions: On October 2, 2024, the Board published a notice in the Federal Register (89 FR 80246) requesting public comment for 60 days on the extension, without revision, of the FR 3052. The comment period for this notice expired on December 2, 2024. The Board received one comment. The comment supported the proposal to extend, without revision, the FR 3052. The comment recommended integrating an international auditing standard and establishing a collaborative working group related to future surveys under the FR 3052. The Board appreciates feedback and will consider these recommendations in connection with future surveys. The Board will adopt the extension, without revision, of the FR 3052 as originally proposed.

Board of Governors of the Federal Reserve System, February 4, 2025.
Benjamin W. McDonough,
Deputy Secretary and Ombuds of the Board.

[FR Doc. 2025-02360 Filed 2-6-25; 8:45 am]

BILLING CODE 6210-01-P